DEPARTMENT OF THE INTERIOR

Bureau of Land Management

[CA-610-02-1220-AA]

Notice of Public Meeting of the California Desert District Advisory Council

SUMMARY: Notice is hereby given, in accordance with Public Laws 92-463 and 94-579, that the California Desert District Advisory Council to the Bureau of Land Management, U.S. Department of the Interior, will meet in formal session on Friday, June 28, 2002, from 8 a.m. to 5 p.m. and Saturday, June 29, from 8 a.m. to 3 p.m. The meeting will be held at the Barstow Community College, located at 2700 Barstow Road, Barstow, California.

Agenda items for the Council meeting will include the following topics:

—Review of District Advisory Council charter, Council role and function

—Election of Officers

—Public Comment for items not on the agenda (Friday morning)

—Overview and update on the West Mojave Plan

—Status report on current District Planning efforts: Northern and Eastern Colorado Plan, Northern and Eastern Mojave Plan, Draft BLM Coachella Valley Plan Amendment—Environmental Impact Statement, Draft Western Colorado Plan, Draft Imperial Sand Dunes Recreation Area Resource Management Plan

—Plan Implementation strategies and priorities

—Council involvement in future Districtwide projects

—Public comment (Saturday afternoon)

—Select future Council meeting date(s), location(s), and agenda topics

All Desert District Advisory Council meetings are open to the public. Time for public comment is scheduled at the beginning of the meeting for topics not on the agenda, and will be made available by the Council Chairman during the presentation of various agenda items. Time for public comment is also scheduled at the end of the meeting.

Written comments may be filed in advance of the meeting for the California Desert District Advisory Council, c/o Bureau of Land Management, Public Affairs Office, 6221 Box Springs Boulevard, Riverside, California 92507-0714. Written comments also are accepted at the time of the meeting and, if copies are provided to the recorder, will be incorporated into the minutes.

FOR FURTHER INFORMATION CONTACT: Doran Sanchez, BLM California Desert District Public Affairs Specialist, (909) 697-5220.

Dated: June 6, 2002.
Linda Hansen,
Acting District Manager.

[FR Doc. 02-15965 Filed 6-20-02; 2:01 pm]

BILLING CODE 4310-40-P